DEPARTMENT OF THE INTERIOR

National Park Service

[N6581; NPS-WASO-NAGPRA-NPS0041289; PPWOCRADN0-PCU00RP14.R50000]

Notice of Inventory Completion: University of Missouri, Museum of Anthropology, Columbia, MO

AGENCY: National Park Service, Interior.

ACTION: Notice.

SUMMARY: In accordance with the Native American Graves Protection and Repatriation Act (NAGPRA), the University of Missouri, Museum of Anthropology has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to Dr. Candace Sall, University of Missouri, Museum of Anthropology, 101 Museum Support Center, Columbia, MO 65211, email nagpra@missouri.edu.

SUPPLEMENTARY INFORMATION: This notice is published as part of the National Park Service's administrative responsibilities under NAGPRA. The determinations in this notice are the sole responsibility of the University of Missouri, Museum of Anthropology, and additional information on the determinations in this notice, including the results of consultation, can be found in the inventory or related records. The National Park Service is not responsible for the determinations in this notice.

Abstract of Information Available

Human remains representing, at least, 22 individuals have been identified. The seven associated funerary objects are one obsidian flake and six ceramic sherds. Prior to 1996, the University of Missouri, Museum of Anthropology, became responsible for the care of 22 ancestors (seven adult females, eight adult males, four adults of unknown sex, and three children of unknown sex) and their funerary belongings. These individuals and associated funerary objects were removed from burials in the Montezuma Mound Group (11PK1245; Pike County, Illinois): Mounds 1-B, 1-C, 7, 7-A, 7-C, 7-F, 8-B, 8-D, and other, unknown locations at Montezuma Mounds on an unknown date by Dr. Parks and the Missouri Historical Society. To our knowledge, no hazardous substances have been used to treat the human remains or funerary objects.

Cultural Affiliation

Based on the information available and the results of consultation, cultural affiliation is reasonably identified by the geographical location or acquisition history of the human remains and associated funerary objects described in this notice.

Determinations

The University of Missouri, Museum of Anthropology has determined that:

• The human remains described in this notice represent the physical remains of 22 individuals of Native American ancestry.

• The seven objects described in this notice are reasonably believed to have been placed intentionally with or near individual human remains at the time of death or later as part of the death rite or ceremony.

• There is a reasonable connection between the human remains and associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 18, 2025. If competing requests for repatriation are received, the University of Missouri, Museum of Anthropology must determine the most appropriate requestor prior to repatriation. Requests for joint repatriation of the human remains and associated funerary objects are considered a single request and not competing requests. The University of Missouri, Museum of Anthropology is responsible for sending a copy of this notice to the Indian Tribes and Native Hawaiian organizations identified in this notice.

Authority: Native American Graves Protection and Repatriation Act, 25 U.S.C. 3003, and the implementing regulations, 43 CFR 10.10.

Dated: September 30, 2025.
Melanie O'Brien,
Manager, National NAGPRA Program.

[FR Doc. 2025-20121 Filed 11-17-25; 8:45 am]

BILLING CODE 4312-52-P